DEPARTMENT OF HEALTH AND HUMAN SERVICES

Centers for Disease Control and Prevention

Environmental Health Specialist Network

Announcement Type: New.

Funding Opportunity Number: RFA EH 05013.

Catalog of Federal Domestic Assistance Number: 93.283.

Key Dates:

Letter of Intent Deadline: November 22, 2004.

Application Deadline: December 20, 2004.

I. Funding Opportunity Description

Authority: Section 301 (42 U.S.C. 241) and section 317(k)(2) [42 U.S.C. 247b(k)(2)] of the Public Health Services Act, as amended.

Purpose: The purpose of this program is to help State health departments improve the practice of environmental health service programs by establishing a network of environmental health specialists (EHSs) who collaborate with epidemiologists and laboratorians to identify and prevent environmental factors contributing to foodborne and/or waterborne illness and disease outbreaks. This announcement expands the EHS Network (EHS-Net) from a project of FoodNet, a component of CDC's Emerging Infections Program, to an independent program that includes drinking water safety (see Appendix A, as posted on the CDC Web site at ­ http://www.cdc.gov/nceh/ehs/EHSNet/default.htm).

This announcement covers:

1. Food Safety (i.e., retail food safety)

2. Water Safety (i.e., private and small drinking water systems not regulated under the Safe Drinking Water Act [SDWA])

Guiding principles for the EHS-Net can be found in Appendix B, as posted on the CDC Web site.

This program addresses “Healthy People 2010” focus areas of Environmental Health, Food Safety, and Public Health Infrastructure. The program also addresses all goals of CDC's “Strategy To Revitalize Environmental Public Health Services in the United States”, located at http:­//www.cdc.gov/nceh/ehs/default.htm.

Measurable outcomes of the program will align with the following performance goal for the National Center for Environmental Health (NCEH): Increase the capacity of State and local health departments to deliver environmental health services in the community.

Research Objectives:

Research objectives of the network are to: (1) Monitor risk factors and prevention policies in foodborne and/or waterborne outbreaks and during routine (non-outbreak) environmental evaluations (i.e., inspections); (2) conduct applied behavioral, environmental epidemiologic, and laboratory research on factors contributing to disease transmission; (3) evaluate food safety and/or drinking water safety service programs and their activities; (4) implement and evaluate pilot prevention and intervention projects; and (5) develop and disseminate the results of network activities and projects to the environmental and public health communities.

Activities:

Awardee activities for this program are as follows:

• Staffing

1. Establish and maintain a full-time senior staff position in the agency's food safety and/or drinking water safety program (i.e., one full-time equivalent per program), with full responsibility for implementation and coordination of activities of the EHS-Net related to food safety and/or drinking water safety (non-SDWA regulated systems). The person in this position must report directly to a senior environmental health service program official who has agency (State and/or local) authority to participate in EHS-Net activities. The person in this position also must have demonstrated leadership skills; technical knowledge and program experience with the food safety and/or drinking water safety program; knowledge and understanding of the appropriate State environmental health program (food safety and/or drinking water safety); and communication skills necessary to effectively promote and facilitate network activities. The person will be involved in study design, data analysis and interpretation, and publication of results. The person also will be responsible for the accuracy, quality, and timely reporting of all data submitted to CDC's EHS-Net Web-based information system (See Appendix A, as posted on the CDC Web site).

2. Identify an existing staff position in the health agency's program with responsibilities and organizational authority for foodborne and/or waterborne disease surveillance. The individual should know and understand the epidemiology and surveillance of foodborne and/or waterborne disease; demonstrate the leadership ability to inform and guide decisions concerning specific activities of the network; have the ability to lead and coordinate proposed activities; and possess a knowledge of the agency's environmental service program (food and/or drinking water). The individual should be active in study design, data analysis and interpretation, and publication of results.

3. Existing staff position(s) in State and/or local agencies with responsibility for carrying out specific EHS-Net activities also may be identified. These persons should have the technical program experience needed to implement proposed activities; an understanding of the State food and/or drinking water program; and the communication skills necessary to effectively implement proposed activities.

• State Agency Collaboration and Planning

1. Strengthen the partnership between the health agency and other State agencies responsible for food safety and/or drinking water safety (i.e., departments of agriculture; agencies for institutional care, education, and environmental protection; etc.) by establishing an interagency plan that identifies complementary responsibilities and support functions to carry out planned EHS-Net activities. The interagency plan should address policies and programs, technical assistance, and resources; and identify participating local agencies.

2. Establish the EHS-Net in a defined area, which could include either an entire State or a geographically defined area (or areas) within a State that represents both rural and urban communities. Geographically defined areas may be represented as cities, counties, townships, parishes, or districts as defined by the public health agency or other partnering agency. Within this geographically defined area, local health agencies and/or other local agencies with regulatory responsibility for food safety and/or drinking water safety must be identified as partners.

3. Within the geographically defined area, develop partnerships with local agencies and others to provide in-kind assistance or other cost-sharing support to complement the basic assistance obtained from CDC to support network activities.

4. Establish and/or sustain effective partnerships with other public or private organizations interested in addressing environmental health services issues related to their effectiveness in preventing disease (e.g., universities, schools of public health, standard-setting organizations, multi-jurisdictional commissions with environmental responsibilities, community-based organizations, other Federal and State government agencies, research organizations, non-governmental organizations and foundations).

• Organize the network to:

1. Maintain the ability to accommodate changes in specific activities and priorities as the public health system's need for information changes, or as new and/or reemerging health problems or environmental issues emerge.

2. Include both rural and urban populations.

3. Have the capacity to conduct multiple, concurrent projects.

4. Enlist participation of local public health departments and other public or private organizations with a role in protecting the public's health.

• Operate the network to function effectively as part of a national network of EHSs. Collaborate with CDC and other EHS sites, through the EHS-Net steering committee and EHS working groups, to establish priorities, coordinate and monitor projects, and ensure that projects address existing and emerging infections issues.

• Propose and conduct activities in collaboration with CDC and appropriate partner agencies or organizations. Collaborate with CDC and other network sites to finalize protocols for network activities. Collaborate with CDC and other network sites to develop mutually agreed upon standardized protocols.

1. Categories of food safety activities:

(a) Monitoring of risk factors and prevention policies for foodborne disease in outbreak investigations and during routine (non-outbreak) environmental evaluations (i.e., inspections). This involves improving the data collection instrument and actual data collection and reporting data collected to CDC through the EHS-Net Web-based information system (see Appendix A, as posted on the CDC Web site). This also may involve collection of food and/or environmental surface samples and submission to State, CDC, or other laboratories.

(b) Applied behavioral, environmental epidemiologic, and laboratory research. Examples of potential behavioral projects include development of projects to evaluate barriers and facilitators for implementation of intervention strategies by food workers or managers; barriers and facilitators for EHSs as risk communicators and risk managers; barriers and facilitators for food safety programs in enforcing regulatory requirements; and development and evaluation of training materials or prevention messages for EHSs, industry, or the public. Examples of potential environmental epidemiologic projects include descriptive epidemiology projects to determine the level of control of risk factors and status of food safety policies, and other studies to determine what factors and policies or combination prevent outbreaks of foodborne disease. Examples of potential laboratory research may include development or evaluation of environmental sampling techniques for norovirus or other pathogens of interest; development or evaluation of pathogen-specific environmental sampling techniques or policies for investigations of foodborne outbreaks, or for use during routine evaluations to establish baseline levels of pathogen-specific contamination; or projects to assess the route of pathogen-specific cross-contamination.

(c) Evaluation of food safety programs and their activities. Potential projects would attempt to assess the effectiveness of food safety programs and/or specific activities in reducing disease in the population served. Implementation and evaluation of pilot prevention and intervention projects (i.e., evaluation of integrated communication projects designed to increase hand washing by food workers in restaurants, or evaluation of hand washing behaviors and the impact on infectious diseases in institutional food service). Potential projects could include evaluation of the effects of food workers' or managers' food safety training programs on active manager control of risk factors to foodborne outbreaks.

2. Propose and conduct these specific network activities for food safety:

(a) Ongoing EHS-Net data collection activity in restaurants, and propose implementation of a similar activity in institutional foodservice settings (e.g., nursing homes, schools, day care centers, prisons) and in retail grocery stores (see Appendix A, as posted on the CDC website).

(b) Ongoing activity to establish a denominator number of restaurants, day care centers, nursing homes, hospitals, State or local prisons, jails, schools, retail grocery stores, and other food service establishments in the State or designated geographic area.

(c) Improved reporting of contributing factors to foodborne outbreaks through CDC's Electronic Foodborne Outbreak Reporting System.

3. Categories of drinking water safety activities:

(a) Monitoring risk factors and prevention policies for waterborne disease in outbreak investigations and during routine (non-outbreak) environmental evaluations (i.e., inspections), especially for small, non-SDWA systems. This may involve development of data collection instruments, actual data collection, and reporting data collected to CDC through the EHS-Net web-based information system (see Appendix A, as posted on the CDC Web site). This activity also may involve collection of water samples for submission to State, CDC, or other laboratories.

(b) Applied behavioral, environmental epidemiologic, and laboratory research. Examples of potential behavioral projects may include evaluation of the barriers and facilitators to private well testing programs, either by owners or through other means, or evaluation of programs designed to introduce private well testing during property transfers. Examples of potential environmental epidemiologic projects include defining the actual public health impacts of drinking water from largely unregulated sources by linking water quality to levels of exposure or illness or by linking other factors (such as extreme storm events) to health outcomes. Examples of potential laboratory research may include development or evaluation of sampling techniques for norovirus or other pathogens of interest in drinking water.

(c) Evaluation of drinking water programs and their activities, especially as related to small systems not regulated under the SDWA. Potential projects could include evaluation of barriers or facilitators to improving drinking water from non-SDWA sources (such as lack of laboratory capacity to evaluate drinking water quality; lack of standards and guidelines for construction, maintenance, and monitoring of small systems, especially private wells; and fragmented responsibility and insufficient resources for oversight of small systems). Potential projects could include evaluation of existing or new programs to improve drinking water quality from small systems through testing or other monitoring; public awareness campaigns; implementation of standards and guidelines related to small systems; or development and implementation of targeted training and education for private well owners and operators of small drinking water systems.

• As part of network activities, collect and submit samples (i.e., food, water, or environmental samples) to designated laboratories for evaluation. Laboratories may include State, Federal, or academic facilities, as appropriate for the study proposed and approved by the EHS-Net.

• Manage, analyze, and interpret data from network activities; and publish and disseminate results.

In a cooperative agreement, CDC staff is substantially involved in the program activities, above and beyond routine grant monitoring. CDC Activities for this program are as follows:

• Provide general coordination for the EHS-Net.

• Serve as the primary contact for and seek input from the U.S. Food and Drug Administration (FDA), the U.S. Department of Agriculture (USDA), the U.S. Environmental Protection Agency (EPA) and other Federal agencies with expertise in food safety and drinking water safety program areas and interest in EHS-Net activities.

• Seek input from participating food and drinking water programs to determine training needs of EHSs. Identify existing training resources. Develop unique training opportunities through partnerships within CDC, with other Federal agencies, and within the EHS-Net. Work with participating environmental health service programs to develop methods for effectively communicating the role of the EHS in protecting the health of their communities.

• Provide technical assistance by participating in outbreak evaluations as requested by participating States.

• Provide consultation, and scientific and technical assistance in the operation of the EHS-Net, and in designing, implementing, and evaluating individual EHS-Net projects.

• Assist with analysis and interpretation of data from EHS-Net projects.

• Participate in the dissemination of findings and information stemming from EHS-Net projects.

• Assist in monitoring and evaluation of scientific and operational accomplishments of the EHS-Net and progress in achieving the purpose and overall goals of this program by conducting conference calls, site visits, hosting meetings of participants and conducting a process evaluation of the EHS-Net.

• If needed, perform laboratory evaluation of samples collected in conjunction with EHS-Net projects and integrate results with data from other EHS-Net projects.

• Assist in the development of research protocols for Institutional Review Board (IRB) review by all institutions participating in any research project involving human subjects and CDC scientists as co-investigators. CDC project managers will ensure that all relevant organizational IRBs have given their written approval. The CDC IRB will review and approve the protocol initially and at least annually until the research project is completed.

II. Award Information

Type of Award:

This award is a Cooperative Agreement. CDC involvement in this program is listed in the Activities Section above.

Mechanism of Support: U01.

Fiscal Year Funds: 2005.

Approximate Total Funding: Up to $2,100,000 will be available in 2005.

Approximate Number of Awards: 14.

Food Safety will involve a total number of 10 awards, eight of which will be targeted to existing awardees and two to new applicants. A total of four awards for Drinking Water Safety will be targeted exclusively for existing awardees.

Approximate Average Award:$100,000 (This amount is for the first 12-month budget period, and includes both direct and indirect costs.)

Floor of Award Range: $75,000.

Ceiling of Award Range: $150,000 per program (food program/drinking water program).

Anticipated Award Date: March 30, 2005.

Budget Period Length: 12 Months.

Project Period Length: 5 years.

Throughout the project period, CDC's commitment to continuation of awards will be conditioned on the availability of funds, evidence of satisfactory progress by the recipient (as documented in required reports), and the determination that continued funding is in the best interest of the Federal Government.

III. Eligibility Information

III.1. Eligible Applicants

Existing EHS-Net awardees may apply for both food safety and drinking water safety awards; new applicants may apply only for food safety awards.

Existing EHS-Net awardees are State infectious disease programs currently funded by CDC through the Emerging Infection Program (EIP), program announcement number 00011, and participating in the existing EHS-Net project under the EIP's FoodNet program with a current EHS-Net project period that expires December 31, 2004. Those states are California, Connecticut, Colorado, Georgia, Minnesota, New York, Oregon, and Tennessee.

New applicants are State infectious disease programs located in public health agencies in the 50 States.

III.2. Cost Sharing or Matching

Matching funds are not required. Applicants must demonstrate in-kind or other cost-sharing arrangements with partnering State and local agencies and with other partnering agencies or organizations as a demonstration of the capacity to carry out program activities. See V.1. Criteria.

III.3. Other

If you request a funding amount greater than the ceiling of the award range, your application will be considered non-responsive, and will not be entered into the review process. You will be notified that your application did not meet the submission requirements.

Special Requirements:

If your application is incomplete or non-responsive to the requirements listed in this section, it will not be entered into the review process. You will be notified that your application did not meet submission requirements.

• Late applications will be considered non-responsive. See section “IV.3. Submission Dates and Times” for more information on deadlines.

• CDC requires that you submit a LOI if you intend to apply for this program. The LOI will be used to gauge the level of interest in this program, and allow CDC to plan the application review. Although the LOI will not be evaluated, and does not enter into review of your subsequent application, failure to submit a timely LOI will preclude you from submitting an application.

• Funding preferences for existing EHS-Net awardees will be for those sites that: demonstrate, through their application, success in implementing EHS-Net activities related to food safety while part of the EHS-Net project under CDC's FoodNet project; demonstrate future in-kind or other cost-sharing arrangements with local agencies identified as partners; demonstrate leveraging of existing funding received from CDC or other Federal agencies for food safety and/or drinking water safety-related projects; and apply to expand their activities to include drinking water safety.

• For drinking water safety, funding preference will be given to applicants who have the capacity to address water safety issues related to small water systems (including private wells) that are not regulated under the SDWA.

• Funding preferences for new applicants will be given to applicants who: demonstrate leveraging of existing funding received from CDC or other Federal agencies for food-related projects; demonstrate in-kind or other cost-sharing arrangements with local agencies or organizations to support this project; and demonstrate existing successful working relationships between the infectious disease program and the environmental health service program (food safety).

Note: Title 2 of the United States Code Section 1611 states that an organization described in Section 501(c)(4) of the Internal Revenue Code that engages in lobbying activities is not eligible to receive Federal funds constituting an award, grant, or loan.

Individuals Eligible To Become Principal Investigators: Any individual with the skills, knowledge, and resources necessary to carry out the proposed research is invited to work with their institution to develop an application for support. Individuals from underrepresented racial and ethnic groups as well as individuals with disabilities are always encouraged to apply for CDC programs.

IV. Application and Submission Information

IV.1. Address To Request Application Package

To apply for this funding opportunity, use application form PHS 398 (OMB number 0925-0001 rev. 5/2001). Forms and instructions are available in an interactive format on the CDC Web site, at the following Internet address: http://www.cdc.gov/od/pgo/forminfo.htm.

Forms and instructions also are available in an interactive format on the National Institutes of Health (NIH) Web site at the following Internet address: http://grants.nih.gov/grants/funding/phs398/phs398.html.

If you do not have access to the Internet or if you have difficulty accessing the forms on-line, you may contact the CDC Procurement and Grants Office, Technical Information Management Section (PGO-TIM) staff at: 770-488-2700. Application forms can be mailed to you.

IV.2. Content and Form of Application Submission

Letter of Intent (LOI): Your LOI must be written in the following format:

• Maximum number of pages: Five pages.

• Font size: 12-point unreduced.

• Double-spaced.

• Paper size: 8.5 by 11 inches.

• Page margin size: One inch.

• Printed only on one side of page.

• Written in plain language; avoid jargon.

Your LOI must contain the following information:

• Descriptive title of the proposed research

• Name, address, e-mail address, and telephone number of the Principal Investigator.

• Names of other key personnel.

• Participating institutions.

• Number and title of this announcement.

Application: Follow the PHS 398 application instructions for content and formatting of your application. If the instructions in this announcement differ in any way from the PHS 398 instructions, follow the instructions in this announcement. For further assistance with the PHS 398 application form, contact PGO-TIM staff at 770-488-2700, or contact GrantsInfo, Telephone (301) 435-0714, e-mail: GrantsInfo@nih.gov.

Your research plan should address activities to be conducted over the entire project period.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711. For more information, see the CDC Web site at: http://www.cdc.gov/od/pgo/funding/pubcommt.htm. If your application form does not have a DUNS number field, please write your DUNS number at the top of the first page of your application, and/or include your DUNS number in your application cover.

This announcement uses the modular budgeting as well as non-modular budgeting formats. See: http://grants.nih.gov/grants/funding/modular/modular.htm for additional guidance on modular budgets. Specifically, if you are submitting an application with direct costs in each year of $250,000 or less, use the modular budget format. Otherwise, follow the instructions for the non-modular budget research grant applications.

You must submit a project narrative with your application forms. Each narrative must be submitted in the following format:

• Maximum number of pages:

36—If applying for both food and water safety. If your narrative exceeds the page limit, only the first 36 pages which are within the page limit will be reviewed.

18—If applying for only food safety. If your narrative exceeds the page limit, only the first 18 pages which are within the page limit will be reviewed.

• Font size: 12 point unreduced

• Paper size: 8.5 by 11 inches

• Page margin size: One inch

• Printed only on one side of page

• Held together only by rubber bands or metal clips, not bound in any other way

The application should include only one section for each item listed below. If applying for both food and drinking water safety, provide separate staffing plans and budgets. The application must include the following items in the order listed:

(1) Background (not more than 6 pages if applying for food and water safety; not more than 3 pages if applying for food safety):

Describe the background and objectives of this cooperative agreement. Describe the responsibilities, problems, constraints, and complexities that may be encountered in establishing and operating the EHS-Net. Describe the roles and responsibilities of participants in the EHS-Net. Describe the designated geographic area for this cooperative agreement and its population.

(2) Capacity (not more than 10 pages if applying for food and water safety; not more than 5 pages if applying for food safety):

(1) Describe your agency's authority to conduct food and/or waterborne disease surveillance activities. Describe your agency's authority, and the authority of other partners, to conduct outbreak investigations and routine environmental evaluations (i.e., inspections or surveys). Describe the food and/or water safety program's authority to evaluate the effectiveness of regulatory requirements, programs, and activities in preventing disease and developing new disease prevention strategies.

(2) Describe the organizational structure of the health agency's disease surveillance programs (foodborne and/or waterborne disease), and how that structure supports environmental health service programs (food safety and/or drinking water safety). Describe the organizational structure of the food and/or water safety program.

(3) For food safety programs, identify the State or local agency with responsibility for restaurants, retail grocery stores, schools, day care centers, nursing homes, hospitals, mobile food units, State and local prisons, and other food service establishments, and the way they will participate in this cooperative agreement.

(4) For drinking water safety programs, identify the State or local agency or organization(s) with responsibility for private and small drinking water systems and describe how these various agencies or organizations will participate in this cooperative agreement.

(5) Characterize your agency's and your significant partner's relationship with local environmental health service programs (food safety and/or drinking water safety).

(6) Characterize the role of the specific local environmental health services programs (food and/or drinking water), or other public health-related programs or agencies, that will be participating as active partners in this cooperative agreement.

(7) Describe how the health agency's disease surveillance program uses existing CDC or other Federal, State, or local funds to support foodborne or waterborne disease surveillance, and how this program announcement can be synergistically linked to existing activities.

(8) Describe any current or past activities of the health agency's disease surveillance program to assist an environmental health service program(s) to improve or assess prevention efforts.

(3) Operational Plan (not more than 10 pages if applying for food and water safety; not more than 5 pages if applying for food safety):

Using the examples of activities described above as a guide, describe the operational plan for the EHS-Net in the State.

(1) For food safety, propose the three specific activities identified under the previously listed awardee activities.

(2) Propose optional activities on the basis of local interest, concern, or expertise, and in keeping with the guiding principles of the EHS-Net.

• Project Management and Staffing Plan (not more than 10 pages if applying for food and water safety; not more than 5 if applying for food safety):

Provide a separate, clearly labeled project management and staffing plan for food safety and/or drinking water safety. Indicate staff credentials, training, and skills to ensure staff can carry out recipient activities.

Coordination between all participating programs should be fully described in the project management and staffing plans. All applicants should describe communication with staff working in related programs in other agencies. Each project management and staffing plan should include the following supporting documents in an application appendix:

(1) For organizational structure provide:

(a) A description of the proposed program management and control systems. Include an organizational chart that indicates placement of the proposed full-time senior staff position in the agency and show lines of authority, communication, accountability, and reporting.

(b) A description of proposed staffing for network activities and job descriptions for existing and proposed positions that illustrate the staff's level of responsibility for implementing activities.

(c) A description of the business office responsible for monitoring Federal funds and how the office will work with proposed program management and staff. Identify the business staff person who will carry out these responsibilities.

(2) Include curriculum vitae (limited to two pages per person) for existing staff.

(3) Provide letters from all outside agencies or partners identified in the operational plan that describe their expertise, capacity, and commitment to fulfill their proposed responsibilities.

• Budget and Budget Justification (not included in narrative page limit):

Provide a separate, detailed budget and budget justification for food safety and/or drinking water safety. Each budget and justification should immediately follow its corresponding staffing plan described under Project Management and Staffing Plan above. All applicants applying for both food safety and drinking water safety should provide a budget summary page that displays each separate program budget, as well as a total budget by object class category. Each budget and budget justification should include the following:

(1) A detailed line-item budget for food safety and/or drinking water safety. The budget justification should describe and justify individual budget items that make up the total amount of funds requested in each object class category for the first 12-month budget period (January 1, 2005 through December 31, 2005).

(2) Travel: Participation is essential in the EHS-Net steering committee and CDC-sponsored training workshops for the EHS-Net. Travel for network implementation should be justified and related to implementation of activities. The annual travel budget should include travel funds for appropriate EHS-Net participants (including, at least, the senior EHS from the food and/or drinking water program and one appropriate infectious disease program representative) to participate in a one-week CDC-sponsored orientation meeting for FY2005 and one two-three day CDC-sponsored EHS-Net steering committee meeting each year. Participation in non-CDC-sponsored professional meetings (e.g., Conference for Food Protection, International Association of Food Protection educational conference, National Rural Water Association, National Environmental Health Association) may be requested, but must be directly relevant to EHS-Net activities. Participation may include the presentation of papers, poster sessions, or exhibits on EHS-Net activities.

(3) Indirect Costs: If indirect costs are requested, include a copy of your agency's current negotiated Federal Indirect Cost Rate Agreement.

(4) Any cost sharing or in-kind support must be presented as a percentage of total requested costs and an amount.

• Evaluation Plan (not included in narrative page limit): Include in the evaluation plan a process evaluation of the network to determine the effectiveness of participation by outside agencies and other partners.

Additional information may be included in the application appendices. The appendices will not count toward the narrative page limit. This additional information includes:

• Curricula Vitaes.

• Resumes.

• Organizational Charts.

• Letters of Support.

Additional requirements that may require you to submit additional documentation with your application are listed in section “VI.2. Administrative and National Policy Requirements.”

IV.3. Submission Dates and Times

LOI Deadline Date: November 22, 2004.

CDC requires that you submit a LOI if you intend to apply for this program. The LOI will be used to gauge the level of interest in this program, and allow CDC to plan the application review. Although the LOI will not be evaluated, and does not enter into review of your subsequent application, failure to submit a timely LOI will preclude you from submitting an application.

Application Deadline Date: December 20, 2004.

Explanation of Deadlines: LOIs and Applications must be received in the CDC Procurement and Grants Office by 4 p.m. eastern time on the deadline date. If you send your application by the United States Postal Service or commercial delivery service, you must ensure the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on LOI and application submission address and deadline. It supersedes information provided in the application instructions. If your application does not meet the deadline above, it will not be eligible for review, and will be discarded. You will be notified that your application did not meet the submission requirements.

CDC will not notify you upon receipt of your application. If you have a question about receipt of your application, first contact your courier. If you still have a question, contact the PGO-TIM staff at: 770-488-2700. Before calling, please wait two to three days after the application deadline to allow time for applications to be processed and logged.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• CDC will assist applicants in the development of research protocols for Institutional Review Board (IRB) review by all institutions participating in any research project involving human subjects and CDC scientists as co-investigators. CDC project managers will ensure that all relevant organizational IRBs have given their written approval. The CDC IRB will review and approve the protocol initially and at least annually until the research project is completed.

• Funds may not be used for data entry personnel because data collection activities are to be carried out by State and/or local EHSs and entered into the CDC EHS-Net Web-based information system.

• Federal funds awarded under this program announcement may not be used to supplant State or local funds.

• Awards will not allow reimbursement of preaward costs.

If you are requesting indirect costs in your budget, you must include a copy of your indirect cost rate agreement. If your indirect cost rate is a provisional rate, the agreement should be less than 12 months old.

Guidance for completing your budget can be found on the CDC web site, at the following Internet address: http://www.cdc.gov/od/pgo/funding/budgetguide.htm.

IV.6. Other Submission Requirements

LOI Submission Address: Submit your LOI by express mail or delivery service to: Technical Information Management—PA# 05013, CDC Procurement and Grants Office, 2920 Brandywine Rd., Atlanta, GA 30341.

LOIs may not be submitted electronically at this time.

Application Submission Address: Submit the original and one hard copy of your application by mail or express delivery service to: Technical Information Management—PA# 05013, CDC Procurement and Grants Office, 2920 Brandywine Rd., Atlanta, GA 30341.

At the time of submission, four additional copies of the application, and all appendices must be sent to: Mildred Williams-Johnson, CDC, National Center for Environmental Health, Centers for Disease Control and Prevention, NCEH/ATSDR, MS E-28, 1600 Clifton Road, NE, Atlanta, Georgia 30333.

Applications may not be submitted electronically at this time.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

The goals of CDC-supported research are to advance the understanding of biological systems, improve the control and prevention of disease and injury, and enhance health. In the written comments, reviewers will be asked to evaluate the application in order to judge the likelihood that the proposed research will have a substantial impact on the pursuit of these goals.

Each application will be individually reviewed and scored. Each application will be allocated a total of 100 points, according to the following criteria:

• Staffing (25 points)

1. Has the applicant identified key professional personnel for assignment to the EHS-Net and network projects? Has the applicant identified key professional personnel from other participating or collaborating institutions, agencies, and organizations outside the applicant's agency that will be assigned to EHS-Net activities? Is a curriculum vitae provided for each in the appendix? Does the applicant clearly state participants' roles in the management and operation of the EHS-Net? Does the applicant provide descriptions of participants' experience in conducting work similar to that proposed in this announcement?

2. Does the applicant describe all support staff and services to be assigned to the EHS-Net?

• Capacity (25 points)

1. Does the applicant succeed in describing how they will implement multisite EHS-Net activities?

2. Does the applicant describe the agency's structure, and support from partnering programs and/or agencies?

3. Is the level of commitment from, and capacity of, the local agencies identified as partners demonstrated by: (a) In-kind or other cost-sharing arrangements described in the application to assist in supporting network activities; (b) technical knowledge and experience of local EHSs identified as potential sources of support for EHS-Net activities; and (c) capacity to electronically submit data to CDC through a Web-based information system?

4. Does the applicant describe the ability to develop and maintain cooperative relationships with public and private, local and regional, public health, laboratory, academic or other organizations that protect public health?

5. Is support from partnering agencies, institutions, organizations, laboratories, and individuals included in the operational plan? Does the applicant provide (in an appendix) letters of support indicating collaborators' commitments to participate in the EHS-Net, and describing their anticipated role?

6. Does the applicant describe the ability to participate in a multi-state collaborative network?

• Operational plan (20 points)

1. Does the applicant describe their plan for establishing and operating the EHS-Net? Does the applicant clearly identify the proposed organizational and operating structure and procedures? Does the applicant describe the roles and responsibilities of all participating agencies, organizations, institutions, and individuals?

2. Does the applicant describe plans to collaborate with CDC and other EHS-Net sites in the establishment and operation of the EHS-Net and individual EHS-Net projects, including project design and development (e.g., protocols), management and analysis of data, and synthesis and dissemination of findings?

3. Does the applicant describe partnerships with necessary and appropriate organizations to establish and operate the proposed EHS-Net?

4. Does the applicant describe plans to provide training opportunities for one or more of the following individuals, groups, or agencies: (a) Persons in professional training, such as environmental health specialists, infectious disease fellows, laboratory fellows, public health students; or (b) partner organizations within the EHS-Net, such as EHSs, infection-control practitioners or local health department personnel? Does the applicant propose to act as a resource for States that are not participating in the EHS-Net, for example, by providing information, training, or recommendations about emerging public health issues and evolving public health practices?

5. Does the applicant describe proposed projects consistent with the guiding principles of the network and the public health needs?

6. Does the applicant describe how the EHS-Net organizational structure in the State will facilitate a swift response to new public health challenges in infectious diseases? Does the applicant describe how the proposed structure can facilitate the preparation of EHSs to recognize or respond to acts of terror?

• Leveraging of resources and in-kind support (20 points)

1. Does the applicant describe existing funds from CDC or other Federal agencies that are used to support foodborne and/or waterborne disease surveillance and food safety and/or drinking water safety programs? Does the applicant describe how these existing projects will be synergistically linked to this proposal?

2. Does the applicant describe in-kind or other forms of support from local agencies or organizations that will be used to supplement CDC funding to carry out network activities?

3. Does the applicant describe a plan to solicit and secure financial and/or technical assistance from other public and private organizations (e.g., schools of public health, university medical schools, public health laboratories, community-based organizations, other Federal and State government agencies, research organizations, foundations) to supplement the core funding from CDC?

• Understanding the objectives of the EHS-Net (10 points)

Does the applicant:

1. Understand the objectives of this cooperative agreement program?

2. Describe the requirements, responsibilities, problems, constraints, and complexities that may be encountered in establishing and operating the EHS-Net?

3. Understand the roles and responsibilities of participation in the EHS-Net?

Recipient performance will be measured by:

• Quality of collaboration between the appropriate environmental health service program (food safety and/or drinking water safety), and the appropriate disease surveillance program (foodborne or waterborne) as evidenced by their ability to identify projects that provide environmental health service programs with information assisting them with control of risk factors to illness and outbreaks.

• Establishment of an interagency plan between State health and food safety and/or drinking water programs, and, when appropriate, their active participation in EHS-Net projects as evidenced by collection and submission of data or specimens, or evidence of other specific contributions to EHS-Net projects.

• Collection and submission to agreed-upon recipients (e.g., CDC Web-based information system; CDC or State laboratories) of at least 95 percent of all data or specimens for those projects in which the State has agreed to participate.

• Active participation of local environmental health service programs as evidenced by data or specimen collection or evidence of other specific contributions to EHS-Net projects.

• Publication of articles and at least one formal presentation at a national conference during this cooperative agreement, as lead or supporting author.

V.2. Review and Selection Process

Applications will be reviewed for completeness by the Procurement and Grants Office (PGO) staff, and for responsiveness by NCEH. Incomplete applications and applications that are nonresponsive to the eligibility criteria will not advance through the review process. Applicants will be notified that their application did not meet submission requirements.

A Special Emphasis Panel will evaluate complete and responsive applications according to the criteria listed in the “V.1. Criteria” section above.

V.3. Anticipated Announcement and Award Dates

Awards anticipated to be effective March 30, 2005.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information about the Code of Federal Regulations, see the National Archives and Records Administration at the following Internet address: http://www.access.gpo.gov/nara/cfr/cfr-table-search.html.

The following additional requirements apply to this project:

• AR-1 Human Subjects Requirements

• AR-9 Paperwork Reduction Act Requirements

• AR-10 Smoke-Free Workplace Requirements

• AR-11 Healthy People 2010

• AR-12 Lobbying Restrictions

• AR-14 Accounting System Requirements

Additional information on these requirements can be found on the CDC Web site at the following Internet address: http://www.cdc.gov/od/pgo/funding/ARs.htm.

VI.3. Reporting Requirements

You must provide CDC with an original, plus two hard copies, of the following reports:

1. Interim progress report no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness.

2. Financial status report no more than 90 days after the end of the budget period.

3. Final financial and performance reports, no more than 90 days after the end of the project period.

These reports must be mailed to the Grants Management Specialist listed in the “Agency Contacts” section of this announcement.

VII. Agency Contacts

For general questions about this announcement, contact: Technical Information Management Section, CDC Procurement and Grants Office, 2920 Brandywine Rd., Atlanta, GA 30341, Telephone: 770-488-2700.

For scientific/research issues, contact: Extramural Project Officer, Carol A. Selman, 4770 Buford Hwy, NE, (F28), Chamblee, GA 30341, Telephone: 770-488-4352, E-mail: cselman@cdc.gov.

For financial, grants management or budget assistance, contact: Vivian F. Walker, Contract Specialist, CDC Procurement and Grants Office, 2920 Brandywine Rd., Atlanta, GA 30341, Telephone: 770-488-2724, E-mail: vwalker@cdc.gov.

VIII. Other Information

Background information concerning EHS-Net can be found on the CDC web site at the following Internet address: http://www.cdc.gov/nceh/ehs/EHSNet/default.htm.

Dated: October 15, 2004.
William P. Nichols,
Acting Director, Procurement and Grants Office, Centers for Disease Control and Prevention.

[FR Doc. 04-23618 Filed 10-20-04; 8:45 am]

BILLING CODE 4163-18-P